SMALL BUSINESS ADMINISTRATION

Small Business Size Standards; Waiver of the Nonmanufacturer Rule

AGENCY: U.S. Small Business Administration.

ACTION: Notice of proposed retraction of a Class Waiver from the Nonmanufacturer Rule for Product Service Code (PSC) 9130, Liquid Propellants—Petroleum Base, under North American Industry Classification System (NAICS) code 324110 (Petroleum Refineries).

SUMMARY: The U.S. Small Business Administration (SBA) is proposing the retraction of a class waiver from the non-manufacturer rule for PSC 9130, Liquid Propellants, Petroleum Base, NAICS code 324110.

DATES: Comments and source information must be submitted June 20, 2011.

ADDRESSES: You may submit comments to Amy Garcia, Procurement Analyst, Small Business Administration, Office of Government Contracting, 409 3rd Street, SW., Suite 8800, Washington, DC 20416.

FOR FURTHER INFORMATION CONTACT: Ms. Amy Garcia, Procurement Analyst, by telephone at (202) 205-6842; by Fax at (202) 481-1630; or by e-mail at amy.garcia@sba.gov.

SUPPLEMENTARY INFORMATION: Section 8(a)(17) of the Small Business Act (Act), 15 U.S.C. 637(a)(17), and SBA's implementing regulations require that recipients of Federal supply contracts set aside for small businesses, SDVO small businesses, women-owned small businesses, or Participants in the SBA's 8(a) BD Program provide the product of a small business manufacturer or processor, if the recipient is other than the actual manufacturer or processor of the product. This requirement is commonly referred to as the Nonmanufacturer Rule. 13 CFR 121.406(b), 125.15(c), 127.505, Section 8(a)(17)(b)(iv) of the Act authorizes SBA to waive the Nonmanufacturer Rule for any “class of products” for which there are no small business manufacturers or processors available to participate in the Federal market.

In order to be considered available to participate in the Federal market for a class of products, a small business manufacturer must have submitted a proposal for a contract solicitation or received a contract from the Federal Government within the last 24 months. 13 CFR 121.1202(c). The SBA defines “class of products” based on the Office of Management and Budget's NAICS. In addition, SBA uses PSCs to further identify particular products within the NAICS code to which a waiver would apply. The SBA may then identify a specific item within a PSC and NAICS to which a class waiver would apply.

The SBA is proposing a retraction of the class waiver from the Nonmanufacturer Rule for PSC 9130 (Liquid Propellants—Petroleum Base) under NAICS code 324110. The waiver from the Nonmanufacturer Rule for PSC 9130 is being retracted based on information SBA received from the Defense Logistics Agency, Defense Energy Support Center (DESC), Fort Belvoir, VA. On May 11, 2009 (74 FR 21838) SBA published in the Federal Register a Notice of Intent to grant a waiver of the Nonmanufacturer Rule for PSC 9130 (Liquid Propellants—Petroleum Base). SBA finalized the waiver on June 8, 2009 (74 FR 2702). DESC was not aware of the notice until after the closing date for submission of comments. DESC has awarded prime contracts to, or received offers from, multiple small business refiners within 24 months of the date the May 11, 2009, Federal Register Notice was published. On August 4, 2009, SBA published a Notice of Retraction of a Waiver from the Nonmanufacturer Rule for PSC 9130 (Liquid Propellants—Petroleum Base), under NAICS code 324110 (Petroleum Refineries) seeking comments on the proposed retraction of waiver. A final Notice of Retraction of a Waiver from the Nonmanufacturer Rule for PSC 9130 (Liquid Propellants—Petroleum Base), under NAICS code 324110 (Petroleum Refineries) was not published. Therefore, SBA is again proposing to Retract a Waiver from the Nonmanufacturer Rule for PSC 9130 (Liquid Propellants—Petroleum Base), under NAICS code 324110 (Petroleum Refineries). The public is invited to comment or provide source information to SBA on the proposed retraction of a waiver of the Nonmanufacturer Rule for the product(s) within 15 days after the date of posting in the Federal Register.

John W. Klein,
Acting Director, Office of Government Contracting.

[FR Doc. 2011-13777 Filed 6-2-11; 8:45 am]

BILLING CODE 8025-01-P